DEPARTMENT OF AGRICULTURE

Agricultural Research Service

Notice of Availability for the Final Environmental Assessment (EA) and Finding No Significant Impact (FONSI) for the Cotton Quality Research Station Land Transfer

AGENCY: Agricultural Research Service, USDA.

ACTION: Notice.

SUMMARY: Notice is hereby given that the U.S. Department of Agriculture (USDA) Agricultural Research Service (ARS) has made a FONSI for transferring the land and real estate at the Cotton Quality Research Station (CQRS) in Clemson, SC, to Clemson University. The FONSI document is based on impact analysis documented in the EA that was issued for 30-day public comment beginning July 18, 2013, and that was finalized on August 28, 2013.

FOR FURTHER INFORMATION CONTACT: Cal Mather, Environmental Protection Specialist, USDA ARS SHEMB, NCAUR, 1815 North University Street, Room 2060, Peoria, Illinois 61604; Telephone: 309-681-6608 or email: cal.mather@ars.usda.gov. You may contact Mr. Mather for a copy of the FONSI document. Copies of the Final EA and FONSI are also available for public inspection during normal business hours at the following Web site and locations:

• www.clemson.edu/usda-property

• Former CQRS, 133 Old Cherry Road, Clemson, SC 29631

• Strom Thurmond Institute, Special Collections, 230 Kappa St., Clemson, SC 29634

SUPPLEMENTARY INFORMATION: In accordance with the National Environmental Policy Act (NEPA) of 1969, as amended, and the Federal Land Policy and Management Act of 1976 (FLPMA), as amended, the United States Department of Agriculture USDA has prepared an EA for the proposed transfer of approximately 10 acres of land and facilities at the Cotton Quality Research Station (CQRS) from the USDA Agricultural Research Service ARS in Clemson, South Carolina, to Clemson University Research Farm Services. As a condition of the transfer, Clemson University is committed to using the property for agricultural research for a period of 25 years, supporting the strategic goals of USDA and establishing a Beginning Farmers and Ranchers Program in accordance with the Memorandum of Understanding, effective March 27, 2013. Clemson University will assume responsibility and maintenance of the constructed facilities and land to be conveyed from USDA.

The property was developed to function as a cotton gin and was converted by USDA for use in the ARS research program. USDA ARS and Clemson University have both utilized the property for agricultural research and development programs since the 1970s. The facility was closed under Public Law (PL) 112-55, Consolidated and Further Continuing Appropriations Act, 2012. In August 2012, a 5-year revocable permit was issued between USDA and Clemson University that allows Clemson University to utilize the Property for a Beginning Farmers and Ranchers Program and conduct a wide range of research, teaching, extension, and demonstration activities. Since August 2012 it has been operated by Clemson University under this permit. Under the terms of the PL, the Secretary of Agriculture has the authority to formally transfer the Property from USDA to Clemson University.

The property transfer will be done with no monetary cost to Clemson University and a Quit Claim Deed will be prepared by the USDA to convey the title/property rights to the University. The Quit Claim Deed will incorporate any use restrictions identified by the NEPA process, as well as the 25-year use restriction for agricultural and natural resources research as required by Section 732 of the PL.

Two alternatives are analyzed in the Final EA, the No Action Alternative and the Proposed Action. The Final EA addresses potential impacts of these alternatives on the natural and human environment.

• Alternative 1—No Action. The USDA would retain possession of the 10 acres of land and facilities at the 133 Old Cherry Road Property. USDA would no longer operate and/or maintain the property and current research operations at the property would cease. USDA does not have adequate resources to operate and/or maintain the property, which would likely fall into disrepair.

• Alternative 2—Proposed Action. The USDA would formally transfer 10 acres of land at the 133 Old Cherry Road Property to Clemson University. As a condition of the transfer, Clemson University would commit to using the Property for agricultural and natural resources research for a period of 25 years, supporting the strategic goals of USDA and establishing a Beginning Farmers and Ranchers Program. Clemson University would assume responsibility and maintenance of the constructed facilities and land to be conveyed from USDA.

In addition, one alternative was considered in the Final EA but eliminated from detailed study. In this alternative, USDA would retain possession of the land and it would be transferred to the General Services Administration for disposal. Since it cannot reasonably be determined who would ultimately take possession of the property and how it would be utilized, it was not analyzed in detail in the EA.

The USDA used and coordinated the NEPA commenting process to satisfy the public involvement process for Section 106 of the National Historic Preservation Act (16 U.S.C. 470(f) as provided for in 36 CFR 800.2(d)(3)). One public comment was received during the public comment period but it did not identify any substantial evidence regarding adverse environmental impacts resulting from the proposed land transfer and did not warrant a change in the Final EA.

Based on its analysis of the Final EA for the property transfer, ARS has found that transferring the land and buildings to Clemson University would have no significant impact on the quality of the human environment. Therefore, ARS will not prepare an Environmental Impact Statement for this proposed action.

Dated: November 19, 2013.
Caird E. Rexroad, Jr.,
Associate Administrator, Agricultural Research Service.

[FR Doc. 2013-28238 Filed 11-25-13; 8:45 am]

BILLING CODE 0518-03-P